NUCLEAR REGULATORY COMMISSION

Reactor Oversight Process Initial Implementation Evaluation Panel

AGENCY: U.S. Nuclear Regulatory Commission.

ACTION: Notice of establishment of the Reactor Oversight Process Initial Implementation Evaluation Panel.

SUMMARY: Pursuant to the Federal Advisory Committee Act of October 6, 1972 (Pub. L., 94-463, Stat. 770-776) the U.S. Nuclear Regulatory Commission (NRC) announces the Establishment of the Reactor Oversight Process Initial Implementation Evaluation Panel (IIEP). The Nuclear Regulatory Commission has determined that establishment of the Panel is necessary and is in the public interest in order to obtain advice and recommendations on the revised reactor oversight process (ROP). This action is being taken in accordance with the Federal Advisory Committee Act after consultation with the Committee Management Secretariat, General Services Administration (GSA).

Background: The ROP for commercial reactors is described in NRC Inspection Manual Chapter 2515. Information on the development of the ROP is contained in Commission papers SECY-99-007, “Recommendations For Reactor Oversight Process Improvements,” dated January 8, 1999, SECY-99-007A, “Recommendations For Reactor Oversight Process Improvements (Follow-up to SECY-99-007),” dated March 22, 1999, and SECY-00-049, “Results of the Revised Reactor Oversight Process Pilot Program,” dated February 24, 2000.

These Commission papers describe the scope and content of performance indicator reporting, a new risk-informed baseline inspection program, a new assessment process, and revisions to the enforcement policy. Commission paper SECY-00-049 also describes the results from the Pilot Program Evaluation Panel (a previous Federal Advisory Committees Act (FACA) panel), including a recommendation from the panel to proceed with initial implementation of the ROP at all power reactor facilities. On March 28, 2000, the Commission approved initial implementation of the ROP, and on May 17, 2000, the Commission directed the NRC staff to convene another evaluation panel under FACA to evaluate the first year of implementation of the ROP. The staff has established this IIEP in response to the Commission's directions.

The IIEP will function as a cross-disciplinary oversight group to independently monitor and evaluate the results of the first year of implementation of the ROP and provide advice and recommendations to the Director of the Office of Nuclear Reactor Regulation on reforming and revising the ROP. The IIEP will provide a written report containing an overall evaluation of the ROP to the Director of the Office of Nuclear Reactor Regulation. Meetings of the Panel will be publically announced in advance, open to the public, and all material reviewed placed in the public document room. A meeting summary will be prepared following each meeting to document the results of the meeting.

The Panel membership will include participants from NRC headquarters and regional offices, a representative from the Nuclear Energy Institute, reactor licensee management representatives, a representative from the Union of Concerned Scientists (a public interest group), and representatives from State Governments.

The establishment of the Panel will be effective with the filing of its charter with the standing committees of Congress having legislative jurisdiction over the NRC, the Library of Congress, and GSA.

FOR FURTHER INFORMATION CONTACT: Andrew L. Bates, Office of the Secretary, U.S. Nuclear Regulatory Commission, Washington, DC 20555: Telephone 301-415-1963.

Dated: September 26, 2000.
Andrew L. Bates,
Advisory Committee Management Officer.

[FR Doc. 00-25235 Filed 9-29-00; 8:45 am]

BILLING CODE 7590-01-P